DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 79 FR 75164-75165 dated December 17, 2014).

This notice reflects organizational changes in the Health Resources and Services Administration (HRSA). Specifically, this notice: (1) Establishes the Office of Human Resources (RB6); (2) establishes the Division of HR Operations (RB61), Division of Workforce Relations (RB62), and the Division of HR Policy and Technology (RB63), within the Office of Human Resources (RB6); (3) transfers the Division of Workforce Development (RB64) to the newly established Office of Human Resources (RB6); (4) abolishes the Division of Human Resources Management (RB42); (5) renames the Office of Management to the Office of Administrative Management (RB4); (6) renames the Division of Policy and Information Coordination to the Division of the Executive Secretariat (RB41); (7) establishes the Division of Executive Office Services (RB45), Division of Logistics and Support (RB46), and the Division of Security Services (RB47), within the Office of Administrative Management (RB4); (8) abolishes the Division of Management Services (RB43); (9) renames the Division of Contract Services for Primary Care, Health Systems and Clinician Recruitment and Retention to the Division of Technology and Enterprise Solutions (RB3A), and the Division of Contract Services for Maternal and Child Health and Administrative Support Offices to the Division of Primary Care and Health Infrastructure Support (RB3B), and the Division of Contract Services for HIV/AIDS, Health Professions, Rural Health and Grants Management to the Division of Population-Based Support (RB3C), within the Office of Acquisitions Management and Policy (RB3); (10) establishes the Division of Policy and Data Analysis (RB33) and the Division of Financial Support Services (RB34) within the Office of Acquisitions Management and Policy (RB3); (11) abolishes the Contract Administration Division (RB38) within the Office of Acquisitions Management and Policy (RB3); (12) renames the Division of IT Operational Support Services to the Division of End User Support (RB58), within the Office of Information Technology (RB5); (13) establishes the Division of Infrastructure Services (RB57), within the Office of Information Technology (RB5); and (14) abolishes the Division of IT Management Support Services (RB57), the Division of Web Support and Collaboration Services (RB59), and the Division of IT Security and Records Management (RB5R) within the Office of Information Technology (RB5).

Chapter RB—Office of Operations

Section RB-00, Mission

To improve health and achieve health equity through access to quality services, a skilled health workforce and innovative programs.

Section RB-10, Organization

Delete the organization for the Office of Operations (RB) in its entirety and replace with the following:

The Office of Operations (RB) is headed by the Chief Operating Officer, who reports directly to the Administrator, Health Resources and Services Administration. The Office of Operations includes the following components:

(1) Office of Operations (RB);

(2) Office of Budget (RB1);

a. Division of Budget Formulation and Presentation (RB11);

b. Division of Budget Execution and Management (RB12);

c. Division of Program Budget Services (RB13);

(3) Office of Financial Policy and Controls (RB2);

a. Division of Internal Controls (RB21);

b. Division of Financial Policy and Analysis (RB22);

(4) Office of Acquisitions Management and Policy (RB3);

a. Division of Technology and Enterprise Solutions (RB3A);

b. Division of Primary Care and Health Infrastructure Support (RB3B);

c. Division of Population-Based Support (RB3C);

d. Division of Policy and Data Analysis (RB33);

e. Division of Financial Support Services (RB34);

(5) Office of Administrative Management (RB4);

a. Division of the Executive Secretariat (RB41);

b. Division of Executive Office Services (RB45);

c. Division of Logistics and Support (RB46);

d. Division of Security Services (RB47);

(6) Office of Information Technology (RB5);

a. Division of Capital Planning, Architecture and Project Management (RB52);

b. Division of Data and Information Services (RB55);

c. Division of Enterprise Solutions and Applications Management (RB56);

d. Division of Infrastructure Services (RB57);

e. Division of End User Support (RB58); and

(7) Office of Human Resources (RB6);

a. Division of HR Operations (RB61);

b. Division of Workforce Relations (RB62);

c. Division of HR Policy and Technology (RB63);

d. Division of Workforce Development (RB64).

Section RB-20, Functions

This notice reflects organizational changes in the Health Resources and Services Administration (HRSA). Specifically, this notice: (1) Transfers the human resources function from the Office of Management to the Office of Human Resources (RB6); (2) transfers the emergency operations function from the Office of Information Technology (RB5) to the Office of Administrative Management (RB4); (3) transfers the functions from the Division of Management Services to the Division of Executive Office Services (RB45), Division of Logistics and Support (RB46), and the Division of Security Services (RB47), within the Office of Administrative Management (RB4); (4) transfers the function of the Contract Administration Division to the Division of Policy and Data Analysis (RB33), and the Division of Financial Support Services (RB34), within the Office of Acquisitions Management and Policy (RB3); (5) transfers the functions of the Division of IT Management Support Services to the Division of End User Support (RB58) and to the CIO's Office; (6) transfers the functions of the Division of Web Support and Collaboration Services to the Division of Capital Planning, Architecture and Project Management (RB56) and to the Division of Infrastructure Services (RB57); and (7) transfers the function of the Division of IT Security and Records Management to the Division of Capital Planning, Architecture and Project Management (RB52) and to the CIO's Office.

Delete the functions for the Office of Acquisitions Management and Policy, the Office of Information and Technology, and the Office of Management, and replace in their entirety.

Office of Acquisitions Management and Policy (RB3)

The Office of Acquisitions Management and Policy: (1) Provides leadership in the planning, development, and implementation of policies and procedures for contracts; (2) exercises the sole responsibility within HRSA for the award and management of contracts; (3) provides advice and consultation of interpretation and application of the Department of Health and Human Services policies and procedures governing contracts management and inter/intra agency agreements; (4) develops operating procedures and policies for the Agency's contracts programs and inter/intra-agency agreements; (5) establishes standards, guides, and evaluation procedures for contract operations throughout the Agency; (6) coordinates the Agency's positions and actions with respect to the audit of contracts; (7) maintains liaison directly with or through Agency Bureaus or Offices with contractors, other organizations, and various components of the department; (8) provides leadership, guidance, and advice on the promotion of the activities in HRSA relating to procurement and material management governed by the Small Business Act of 1958, Executive Order 11625, other statutes and national policy directives for augmenting the role of private industry, small and minority businesses as sources of supply to the Government and Government contractors; and (9) plans, directs, and coordinates the Agency's strategic sourcing program.

Division of Technology and Enterprise Solutions (RB3A)

The Division of Technology and Enterprise Solutions: (1) Provides comprehensive acquisition services including planning, soliciting, negotiating, awarding, and administering simplified and negotiated procurement actions tailored to the functions of its assigned Bureau/Offices; (2) ensures compliance with federal laws and regulations, departmental and Agency guidelines, policies and procedures; (3) utilizes the automated contracts reporting systems including data input, data accuracy assessments, review, and correction of data reports; (4) provides professional, in-depth advice and consultation, customized to the Bureaus/Offices, regarding the appropriate contract vehicles and the various phases of the acquisition cycle; (5) conducts pre-award reviews of proposed contracts that exceed the requirements called for in the federal and departmental acquisition regulations in conjunction with the other contract services divisions; (6) plans and coordinates acquisition reviews of contracting activities within HRSA headquarters and the field components; and (7) responds to congressional inquiries and requests for acquisition information from other federal agencies and non-federal sources.

Division of Primary Care and Health Infrastructure Support (RB3B)

The Division of Primary Care and Health Infrastructure Support: (1) Provides comprehensive acquisition services including planning, soliciting, negotiating, awarding, and administering simplified and negotiated procurement actions tailored to the functions of its assigned Bureau/Offices; (2) ensures compliance with federal laws and regulations, departmental, and Agency guidelines, policies and procedures; (3) utilizes the automated contracts reporting systems including data input, data accuracy assessments, review, and correction of data reports; (4) provides professional, in-depth advice and consultation, customized to the Bureaus/Offices named above, regarding the appropriate contract vehicles and the various phases of the acquisition cycle; (5) conducts pre-award reviews of proposed contracts that exceed the requirements called for in the federal and departmental acquisition regulations in conjunction with the other contract services divisions; (6) plans and coordinates acquisition reviews of contracting activities within HRSA headquarters and the field components; and (7) responds to congressional inquiries and requests for acquisition information from other federal agencies and non-federal sources.

Division of Population-Based Support (RB3C)

The Division of Population-Based Support: (1) Provides comprehensive acquisition services including planning, soliciting, negotiating, awarding, and administering simplified and negotiated procurement actions tailored to the functions of its assigned Bureau/Offices; (2) ensures compliance with federal laws and regulations, departmental and Agency guidelines, policies and procedures; (3) utilizes the automated contracts reporting systems including data input, data accuracy assessments, review, and correction of data reports; (4) provides professional, in-depth advice and consultation, customized to the Bureaus/Offices, regarding the appropriate contract vehicles and the various phases of the acquisition cycle; (5) conducts pre-award reviews of proposed contracts that exceed the requirements called for in the federal and departmental acquisition regulations in conjunction with the other contract services divisions; (6) plans and coordinates acquisition reviews of contracting activities within HRSA headquarters and the field components; and (7) responds to congressional inquiries and requests for acquisition information from other federal agencies and non-federal sources.

Division of Policy and Data Analysis (RB33)

The Division of Policy and Data Analysis: (1) Administers the training and certification programs in collaboration with HRSA's programs and offices for HRSA's Contracting Officers' Representatives (CORS), FAC-C acquisition professionals, and Program and Project Mangers (P/PMs); (2) administers and oversees HRSA's automated contracts reporting systems; (3) conducts and monitors the performance of the HRSA purchase card program for headquarters, satellite contracts office, and regional field offices; (4) develops and implements policies, procedures, and other internal controls in compliance with federal, departmental, and Agency acquisition laws, regulations, policies and procedures; (5) coordinates and responds to acquisition-related information requests including congressional inquiries, performance management reviews, and requests for information from the General Accounting Office, Office of the Inspector General and other departments and non-federal sources; (6) conducts independent reviews and analysis requested by external and internal customers; (7) coordinates the Office of Management and Budget Circular No. A-123 efforts; and (8) maintains the HRSA-wide contract portfolio for IDIQs and BPAs.

Division of Financial Support Services (RB34)

The Division of Financial Support Services: (1) Manages the close-out process of negotiated and simplified acquisition actions and other related actions; (2) in coordination with the Divisions of Contract Services, provides contract audits and analysis related to HRSA's acquisition actions, including terminations, modifications, cost proposals, and invoices; (3) manages the invoice tracker process; (4) manages the inter/intra-agency agreement process; (5) manages input into the Small Business Procurement Forecast Data Repository; (6) manages the contractor performance assessment reporting system and the procurement writing system; and (7) provides credit card audits to ensure compliance with HRSA Policy.

Office of Administrative Management (RB4)

The Office of Administrative Management provides HRSA-wide leadership, program direction, and coordination of all phases of administrative management. Specifically, the Office of Administrative Management: (1) Provides management expertise, staff advice, and support to the Chief Operating Officer in administrative program and policy formulation and execution; (2) provides administrative management services including property management, space planning, Contingency of Operations, safety, physical security, and general administrative services; (3) plans, directs, and coordinates organizational personnel security and badging activities; (4) coordinates the development of policy and regulations; (5) directs and coordinates the agency's delegations of authority; (7) administers the agency's Executive Secretariat and committee management functions; (8) administers the agency's Freedom of Information Program; and (9) serves as the agency's Senior Travel Official.

Division of the Executive Secretariat (RB41)

The Division of the Executive Secretariat provides leadership, management and guidance HRSA-wide for correspondence, policy and information coordination and Freedom of Information Act requests. Specifically, the Executive Secretariat: (1) Advises the Administrator and other key agency officials on cross-cutting policy issues and assists in the identification and resolution of cross-cutting policy issues and problems; (2) establishes and maintains tracking systems that provide HRSA-wide coordination and clearance of policies, regulations and guidelines; (3) plans, organizes and directs the Executive Secretariat with primary responsibility for preparation and management of written correspondence; (4) arranges briefings for Department officials on critical policy issues and oversees the development of necessary briefing documents; (5) coordinates the preparation of proposed rules and regulations relating to HRSA programs and coordinates review and comment on other Department regulations and policy directives that may affect HRSA programs; (6) oversees and coordinates the committee management activities; (7) coordinates the review and publication of Federal Register notices; and (8) coordinates the implementation of the Freedom of Information Act for the agency.

Division of Executive Office Services (RB45)

The Division of Executive Office Services plans, directs, and coordinates administrative activities for the offices within the Office of the Administrator (OA). Specifically: (1) Provides administrative management services including property, and general administrative services; (2) ensures implementation of statutes, Executive Orders, and regulations related to official travel and transportation; (3) provides oversight for the HRSA OA travel management program involving use of travel management systems, passenger transportation, and travel charge cards; (4) manages, controls, and/or coordinates all matters relating to mail management within OA; (5) serves as liaison for the Office of the Administrator awards coordination; (6) manages and/or coordinates small purchases and Iprocurements; and (7) coordinates human resource activities for the Office of the Administrator offices.

Division of Logistics and Support (RB46)

The Division of Logistics and Support plans, directs, and coordinates administrative activities for the HRSA Bureaus and Offices. Specifically: (1) Ensures implementation of statutes, Executive Orders, and regulations related to official travel, transportation, and relocation; (2) provides oversight for the HRSA travel management program involving use of travel management services/systems, passenger transportation, and travel charge cards; (3) manages, controls, and/or coordinates all matters relating to mail management within HRSA, including developing and implementing procedures for the receipt, delivery, collection, and dispatch of mail; (4) ensures implementation of regulations and policies related to time and attendance throughout HRSA; (5) responsible for the HRSA time and attendance program; (6) manages and/or coordinates small purchases and Iprocurements for Reasonable Accommodations; (7) ensures implementation of statutes, Executive Orders, and regulations related to official relocations of HRSA staff; (8) manages, controls, and/or coordinates all matters relating to mail management within HRSA including developing and implementing procedures for the receipt, delivery, collection, and dispatch of mail; (9) maintains overall responsibility for the HRSA Forms Management Program; (10) provides oversight for the HRSA travel management program involving use of travel management systems, passenger transportation, and travel charge cards; (11) manages the quality of work life programs; (12) provides administrative management services including procurement, property, space planning, and general administrative services; (13) provides planning, management, and oversight of all interior design projects, move services and furniture requirements; (14) develops space and furniture standards and related policies; (15) provides analysis of office space requirements required in supporting decisions relating to the acquisition of commercial leases; (16) manages the copier maintenance program; and (17) manages ergonomics throughout HRSA.

Division of Security Services (RB47)

The Division of Security Services plans, directs, and coordinates safety, physical security, personnel security, COOP/Emergency Management, parking/transit subsidy and badging. Specifically: (1) Ensures implementation of Executive Orders, and regulations related to badging and personnel security related functions; (2) manages Transhare and parking coordination programs; (3) provides support and guidance on badging and personnel security issues; (4) approves foreign travel; (5) performs security briefings; (6) approves UFMS and other system requests; (7) performs on-boarding and off-boarding duties; (8) serves as Transhare coordinator and provides oversight for the Transhare and parking programs, involving applicant verification, approval, and cost analysis; (9) ensures implementation of Executive Orders and regulations related to Safety and Security functions; (10) provides advice, counsel direction and support to employees to fulfill the agency's primary responsibility of providing a workplace free from recognizable safety and health concerns; (11) manages the Continuity of Operations Plan (COOP) program for the offices supported by the Office of Administrative Services as well as coordinating with their counterparts in the HRSA Bureaus; (12) provides Emergency Management support nationwide to HRSA customers to include departmental reporting; (13) manages the GETS card program HRSA wide; (14) serves as the liaison to the department for the foreign visitor requests; (15) manages the card readers for all HRSA space; (16) manages the HRSA accountability program, shelter in place program and evacuation coordination for employees with disabilities; (17) provides training for the safety and security programs; (18) plans, directs and coordinates HRSA's emergency operations activities; (19) serves as HRSA's liaison to HHS and interagency partners on emergency preparedness matters; and (20) coordinates HRSA continuity of operations and continuity of Government activities and maintains HRSA's Alternate Operating Facilities.

Office of the Director and Chief Information Officer (RB5)

The Chief Information Officer is responsible for the organization, management, and administrative functions necessary to carry out the responsibilities of the Chief Information Officer including: (1) Architects, deploys, and supports IT infrastructure; (2) provides IT end user support; (3) develops enterprise and custom applications; (4) provides investment control, budget formulation and execution, policy development, strategic and tactical planning, and performance monitoring; (5) provides leadership in the development, review, and implementation of policies and procedures to promote improved information technology (IT) management capabilities and best practices throughout HRSA; (6) coordinates IT workforce issues and works closely with the Office of Administrative Services on IT recruitment and training issues; and (7) oversees HRSA security operations and management program.

Division of Capital Planning, Architecture and Project Management (RB52)

The Division of Capital Planning, Architecture and Project Management coordinates HRSA's capital planning and investment control, Enterprise Architecture, and Enterprise Project Life Cycle processes including: (1) Provides direct planning development and support to assure that IT activities support and achieve agency business planning and mission objectives; (2) works to obtain required information and analyze it as appropriate; coordinates control and evaluation of ongoing IT projects and investments, including support to the HRSA Enterprise Governance Board and the Technical and Business Review Board in conducting such reviews; (3) implements, coordinates, and administers the records management program for HRSA; and (4) establishes Agency records management policy, HRSA records schedules, and provides training in compliance with National Archives and Records Administration standards.

Division of Data and Information Services (RB55)

The Division of Data and Information Services develops and maintains an overall data and information management strategy for HRSA that is integrated with HHS and government-wide strategies, including: (1) Serves as HRSA's coordination center for data transparency and Open Government data initiatives; (2) provides for HRSA's data quality and ensures that data required for HRSA's enterprise information requirements are captured in appropriate enterprise applications and that necessary data repositories are built and maintained; (3) evaluates and integrates emerging technologies to facilitate the translation of data and information from data repositories into electronic formats for internal and external dissemination; (4) identifies information needs across HRSA and develops approaches for meeting those needs using appropriate technologies, including development and maintenance of an enterprise reporting platform and a geospatial data warehouse; (5) enhances and expands the use and utility of HRSA's data by providing basic analytic and user support, develops and maintains a range of information products for internal and external users, and demonstrates potential uses of information in supporting management decisions; (6) provides leadership and establishes policies to address legislative or regulatory requirements in its areas of responsibility; and (7) advises HRSA's Chief Information Officer on technical and analytical support that can be made available to other HRSA Bureaus and Offices.

Division of Enterprise Solutions and Applications Management (RB56)

The Division of Enterprise Solutions and Applications Management (DESAM) develops enterprise and customize software applications to meet customer and mission needs. DESAM evaluates business processes, and develops and integrates systems, and functional and data architectures based on requirements. DESAM develops, maintains and supports software application including Commercial-Off-The-Shelf (COTS) applications.

Division of Infrastructure Services (RB57)

The Division of Infrastructure Services provides leadership and consultation including the following functions: (1) Directs and manages the support and acquisition of HRSA's network and desktop hardware, servers, wireless communication devices, and software licenses; (2) manages the HRSA Data Center and the operation and maintenance of a complex, high-availability network infrastructure on which mission-critical applications are made available 24 hours per day, 7 days per week; (3) controls infrastructure configuration management, installations and upgrades, security perimeter protection, and system resource access; and (4) coordinates IT activities for Continuity of Operations Planning Agency-wide including provisioning and maintaining IT infrastructure and hardware at designated Continuity of Operations Planning locations to support emergency and Continuity of Operations Planning requirements.

Division of End User Support (RB58)

The Division of End User Support provides leadership, consultation, training, and management services for HRSA's enterprise user computing environment. Specifically: (1) Directs and manages the support and acquisition of HRSA's desktop hardware, mobile devices, telecommunication, and cabling; (2) maintains workstation hardware and software configuration management controls; (3) accounts for property life cycle management, and tracks Agency-wide IT capital equipment; (4) oversees the delivery of desktop services to staff in HRSA Regional Offices; and (5) provides telecommunications accountability, oversight, and support.

Office of Human Resources (RB6)

(1) Provides advice and guidance on all aspects of the HRSA human resources management program; (2) provides the full range of human resources operations including: employment; staffing and recruitment; compensation; classification; executive resources; labor and employee relations; employee benefits; and retirement; (3) develops and coordinates the implementation of human resources policies and procedures for HRSA's human resources activities; (4) monitors, evaluates, and reports on the effectiveness, efficiency, and compliance with HR laws, rules, and regulations; (5) provides advice and guidance for the establishment or modification of organization structures; (6) manages the HRSA's Ethics Program; (7) administers the agency's performance management programs; (8) manages the incentive and honor awards programs; (9) represents HRSA in human resources matters both within and outside of the Department; (10) oversees the commissioned corps liaison activities including the day-to-day operations of workforce management; (11) monitors HR accountability; (12) manages HR information technology; (13) provides staff support to the Deputy Ethics Counselor; (14) directs, coordinates, and conducts workforce development activities for the agency and (15) conducts HRSA-wide workforce analysis studies and surveys.

Division of HR Operations (RB61)

The Division of HR Operations is responsible for providing advice, guidance and advisory services on human resources activities. (1) Provides the full range of human resources operations activities including: employment; staffing and recruitment; compensation; classification; and personnel action processing; (2) develops and implements human resources policies and procedures for classification, and staffing and recruitment; (3) provides expert guidance to managers on the recruitment process; and (4) ensures human resources staff is meeting customer service and performance expectations.

Division of Workforce Relations (RB62)

The Division of Workforce Relations is responsible for providing advice, guidance, and counsel to agency employees and managers. (1) Represents HRSA on human resources matters before the Department, the Office of the General Counsel, the Office of Government Ethics, the Office of Personnel Management, the unions, and the Federal Labor Relations Authority; (2) provides human resources to managers and employees, including: labor relations, employee relations, performance management, employee benefits, and retirement; (3) manages the unemployment and voluntary leave transfer programs; (4) manages the HRSA-wide ethics program; (5) administers the performance management programs; (6) manages commissioned corps liaison activities; and (7) manages HRSA's Telework Program.

Division of HR Policy and Technology (RB63)

The Division of HR Policy and Technology: (1) Develops and implements HRSA-wide human resources policies; (2) establishes standard operating procedures for the human resources office; (3) guides the identification, review, and implementation of HR information technology that enables workforce empowerment and supports HR in achieving its ability to execute a variety of duties efficiently and effectively; (4) manages an accountability program that includes preparation and responses to audits and reviews; (5) manages the incentive and honor awards programs; (6) manages the HR helpdesk by providing timely, reliable, and accurate HR-related information to customers and other stakeholders; (7) manages the executive resources functions to include recruitment, staffing, and performance management; and (8) works on HR projects and initiatives.

Division of Workforce Development (RB64)

(1) Establishes long-term workforce skills and capacity building strategies; (2) plans, directs, manages, evaluates HRSA-wide learning programs, technical, career growth and leadership development programs; (3) develops, designs, implements, and evaluates a comprehensive strategic workforce leadership development and career management program for all occupational series throughout HRSA; (4) provides technical assistance and recommendations in creating high-performance in organizations, career management, and employee learning and development; (5) maximizes economies of scale through systematic planning and evaluation of agency-wide learning and leadership development initiatives; (6) identifies and assesses relevant scanning/benchmarking on workforce and career development processes, services and products; (7) establishes policies governing major learning initiatives and new learning activities, and works collaboratively with other components of HRSA in planning, developing, implementing, and evaluating policies related to professional development initiatives; (8) plans, directs, and manages HRSA-wide skills-building and service programs for fellows and interns; (9) conducts agency-wide workforce analysis studies and surveys; (10) develops comprehensive workforce capacity-building strategies that meet the requirements of the Office of Personnel Management and the Department of Health and Human Services, programmatic needs of HRSA, and the governance and management needs of HRSA leadership; and (11) evaluates workforce capacity-building strategies to ensure that HRSA is able to retain a cadre of talented and ready public health professionals, reduce risks associated with turnover in mission critical positions and create a match between future needs and the aspirations of individuals.

Section RB-30, Delegations of Authority

All delegations of authority and re-delegations of authority made to HRSA officials that were in effect immediately prior to this reorganization, and that are consistent with this reorganization, shall continue in effect pending further re-delegation.

This reorganization is effective upon date of signature.

Dated: January 12, 2015.
Mary K. Wakefield,
Administrator.

[FR Doc. 2015-00710 Filed 1-16-15; 8:45 am]

BILLING CODE 4165-15-P